DEPARTMENT OF COMMERCE

Submission For OMB Review; Comment Request

The Department of Commerce (DOC) has submitted to the Office of Management and Budget (OMB) for clearance the following proposal for collection of information under the provisions of the Paperwork Reduction Act (44 U.S.C. chapter 35).

Agency: U.S. Census Bureau.

Title: Current Industrial Reports (Wave I Mandatory & Voluntary Surveys).

Form Number(s): MQ325B, MQ327D, MA311D, MA325F, MA327C, MA331A, MA331B, MA331E, MA332Q, MA333A, MA333M, MA333N, MA334B, MA335A, MA335F, MA335H and MA335K.

OMB Approval Number: 0607-0392.

Type of Request: Regular submission.

Burden Hours: 9,519.

Number of Respondents: 9,309.

Average Hours Per Response: 54 minutes.

Needs and Uses: The Census Bureau conducts a series of monthly, quarterly, and annual surveys as part of the Current Industrial Reports (CIR) program. The CIR program focuses primarily on the quantity and value of shipments of particular products and occasionally with data on production and inventories; unfilled orders, receipts, stocks and consumption; and comparative data on domestic production, exports, and imports of the products they cover.

Primary users of these data are government agencies, business firms, trade associations, and private research and consulting organizations. The Federal Reserve Board uses CIR data in its monthly index of industrial production as well as its annual revision to the index. The Bureau of Economic Analysis (BEA) and the Bureau of Labor Statistics (BLS) use the CIR data in the estimate of components of gross domestic product (GDP) and the estimate of output for productivity analysis, respectively. Many government agencies, such as the International Trade Commission, Department of Agriculture, Food and Drug Administration, Department of Energy, Federal Aviation Administration, BEA, and International Trade Administration use the data for industrial analysis, projections, and monitoring import penetration. Private business firms and organizations use the data for trend projections, market analysis, product planning, and other economic and business-oriented analysis.

Due to the large number of surveys in the CIR program, for clearance purposes, the CIR surveys are divided into “waves.” There are three waves that include the mandatory and voluntary surveys. Mandatory and voluntary surveys historically have been divided into separate clearance requests, making six separate clearances. Each year, one wave (or two clearance requests) is submitted for OMB review. We are now combining the mandatory and voluntary surveys of each wave into one clearance request, reducing the total number of clearance requests from six to three, and the number of OMB submissions annually from two to one. This year we are submitting the mandatory and voluntary surveys contained in Wave I for OMB review.

Also, in this request, we are converting the MA311D, “Confectionery” and MA333N, “Fluid Power Products” from mandatory collections to voluntary. Due to a lack of funding, we are discontinuing M336L, “Truck Trailers” and MQ332E, “Plumbing Fixtures.”

Affected Public: Business or other for-profit organizations.

Frequency: Wave I contains surveys that are conducted quarterly and annually.

Respondent's Obligation: Wave I contains both mandatory and voluntary surveys.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 15, 2003.
Gwellnar Banks,
Management Analyst, Office of the Chief Information Officer.

[FR Doc. 03-18409 Filed 7-18-03; 8:45 am]

BILLING CODE 3510-07-P